CORPORATION FOR NATIONAL AND COMMUNITY SERVICE

Sunshine Act Meeting

The Board of Directors of the Corporation for National and Community Service gives notice of the following meeting:

Date and Time: Wednesday, September 20, 2006, 9:30 a.m.-12 p.m.

Place: Corporation for National and Community Service; 8th Floor; 1201 New York Avenue, NW., Washington, DC 20525.

Status: Open.

Matters to be Considered:

I. Chair's Opening Remarks.

II. Consideration of Prior Meeting's Minutes.

III. Committee Reports.

IV. CEO Report.

V. Public Comment.

Accommodations: Anyone who needs an interpreter or other accommodation should notify the Corporation's contact person by 5 p.m. Monday, September 18, 2006.

FOR FURTHER INFORMATION CONTACT: David Premo, Public Affairs Associate, Public Affairs, Corporation for National and Community Service, 10th Floor, Room 10302E, 1201 New York Avenue, NW., Washington, DC 20525. Phone (202) 606-6717. Fax (202) 606-3460. TDD: (202) 606-3472. E-mail: dpremo@cns.gov.

Dated: September 7, 2006.
Frank R. Trinity,
General Counsel.

[FR Doc. 06-7605 Filed 9-8-06; 11:01 am]

BILLING CODE 6050-$$-P